ENVIRONMENTAL PROTECTION AGENCY

[FRL-7671-7]

Administrative Order on Consent—Portland Cement, Site 5

AGENCY: Environmental Protection Agency.

ACTION: Notice of proposed settlement agreement pursuant to section 122(g)(4) of CERCLA, request for public comment, and notice of opportunity for a public meeting.

SUMMARY: Notice is hereby given of a proposed settlement pursuant to section 122(g)(4) of the Comprehensive Environmental Response, Compensation, and Liability Act of 1980, 42 U.S.C. 9622(g)(4), concerning the Portland Cement Superfund site, Site 5 (“Site 5”). The proposed settlement is embodied in an Administrative Order on Consent (“AOC”) between the United States, on behalf of the United States Environmental Protection Agency (“EPA”), the present owners of Site 5 (the 1967 Trust and the 1981 Trust, hereinafter, collectively the “Trusts”), and the Trustees of those Trusts (collectively the “Parties”).

Site 5 is located at approximately 2500 West and Cudahy Lane in Section 10, Township 1 North, Range 1 West, SLB&M, Davis County, Utah. Site 5 encompasses approximately 16.5 acres of undeveloped land surrounded by salt flats. Site 5 is one of five sites on which cement kiln dust (“CKD”) and refractory brick from the former Portland Cement Plant in Salt Lake City, Utah were dumped. Approximately 42,500 to 68,000 cubic yards of CKD were distributed unevenly in piles of varying degrees at Site 5. In 1994, EPA reached a settlement with Lone Star Industries, the then owner and operator of the former Portland Cement Plant which provided financial settlement to EPA with respect to the five CKD dump sites in Utah. EPA has undertaken response actions at Site 5, and in 2001, EPA completed an Engineering Evaluation/Cost Analysis (EE/CA) for Site 5. EPA has incurred and will continue to incur response costs at or in connection with Site 5.

Under the proposed AOC, the Trusts and Trustees agree to pay $75,000 within 30 days of the effective date of the AOC and agree to pay a percentage of the Net Sales Proceeds of any sale of the Property as outlined in the AOC. In exchange, the United States will provide covenants to the Trusts and Trustees under section 106 and 107 of the Comprehensive Environmental Response, Compensation, and Liability Act of 1980, 42 U.S.C. 9606 or 9607 and under section 7003 of Resource Conservation and Recovery Act, 42 U.S.C. 6973 and will provide full and complete contribution protection for the Trusts and Trustees.

Comment Period and Opportunity for Public Meeting: For thirty (30) days following the date of publication of this document, July 8, 2004, the Agency will receive written comments relating to the proposed AOC and will accept a request for a public meeting in the affected area. The Agency's response to any comments received will be available for public inspection at the Superfund Records Center at the U.S. Environmental Protection Agency, Region 8, 999 18th Street, Denver, Colorado, 80202. The Agreement is subject to final approval after the comment period and after the public meeting, if a public meeting is requested. A public meeting will only be held, if one is requested. Please send all comments on this document or request for a public meeting to Richard Sisk, Legal Enforcement Attorney (8ENF-L), U.S. Environmental Protection Agency, 999 18th Street, Suite 300, Denver, CO 80202-2466.

FOR FURTHER INFORMATION CONTACT: Richard Sisk, Legal Enforcement Attorney (ENF-L), Legal Enforcement Program, U.S. Environmental Protection Agency, 999 18th Street, Suite 300, Denver, Colorado 80202-2466, (303) 312-6638. Please contact Sharon Abendschan, Enforcement Specialist at (303) 312-6957 for requests for copies of the Administrative Order on Consent/or repository location(s) where supporting documentation may be found and reviewed.

Dated: May 28, 2004.
Michael T. Risner,
Acting Assistant Regional Administrator, Office of Enforcement, Compliance and Environmental Justice, Region VIII.

[FR Doc. 04-12929 Filed 6-7-04; 8:45 am]

BILLING CODE 6560-50-P